DEPARTMENT OF COMMERCE.

International Trade Administration

A-570-851

Notice of Extension of the Preliminary Results of the Administrative Antidumping Duty Review: Certain Preserved Mushrooms from the People's Republic of China

AGENCY: Import Administration, International Trade Administration, Department of Commerce.

EFFECTIVE DATE: October 6, 2005.

FOR FURTHER INFORMATION CONTACT: Irene Gorelik or Paul Walker, AD/CVD Operations, Office 9, Import Administration, International Trade Administration, U.S. Department of Commerce, 14th Street and Constitution Avenue, NW, Washington, DC 20230; telephone (202) 482-6905 and (202) 482-0413, respectively.

SUPPLEMENTARY INFORMATION:

Background

On February 19, 1999, the Department published in the Federal Register an amended final determination and antidumping duty order on certain preserved mushrooms from the PRC. See Notice of Amendment of Final Determination of Sales at Less Than Fair Value and Antidumping Duty Order: Certain Preserved Mushrooms from the People's Republic of China, 64 FR 8308 (February 19, 1999).

On February 1, 2005, the Department published a Notice of Opportunity to Request Administrative Review of Antidumping or Countervailing Duty Order, Finding, or Suspended Investigation, 70 FR 5136. On February 28, 2005, the Petitioner requested, in accordance with section 751(a) of the Tariff Act of 1930 (“the Act”) and 19 CFR 351.213(b), an administrative review of the antidumping duty order on certain preserved mushrooms from the PRC for thirty companies covering the period February 1, 2004, through January 31, 2005. On February 7, 2005, and February 25, 2005, four Chinese companies, Gerber Food (Yunnan) Co., Ltd., Green Fresh Foods (Zhangzhou) Co., Ltd., Primera Harvest (Xiangfan) Co., Ltd., and Raoping Yucun Canned Foods Factory requested an administrative review. The Department notes that these four companies were also included in the Petitioner's February 28, 2005, request for an administrative review of thirty companies.

On March 23, 2005, the Department initiated an administrative review of thirty Chinese companies. See Initiation of Antidumping and Countervailing Duty Administrative Reviews and Request for Revocation in Part, 70 FR 14643 (March 23, 2005). On June 29, 2005, the Petitioner filed a timely letter withdrawing its request for review of twenty-five companies. On July 21, 2005, the Department rescinded the reviews for the twenty-five companies. See Certain Preserved Mushrooms from the People's Republic of China: Notice of Partial Rescission of Antidumping Duty Administrative Review, 70 FR 42038 (July 21, 2005).

Extension of Time Limits for Preliminary Results

Pursuant to section 751(a)(3)(A) of the Tariff Act of 1930, as amended (“the Act”), the Department shall issue preliminary results in an administrative review of an antidumping duty order within 245 days after the last day of the anniversary month of the date of publication of the order. The Act further provides, however, that the Department may extend that 245-day period to 365 days if it determines it is not practicable to complete the review within the foregoing time period. The Department finds that it is not practicable to complete the preliminary results within the originally anticipated time limit of October 31, 2005 due to complex respondent specific issues of production processes and sales. The Department has deemed it necessary to provide additional time to conduct a thorough analysis prior to issuing the preliminary results.

Section 751(a)(3)(A) of the Act and section 351.213(h)(2) of the Department's regulations allow the Department to extend the deadline for the preliminary results to a maximum of 365 days from the last of the anniversary month of the order. Accordingly, the Department is extending the time limit for the completion of the preliminary results until no later than February 28, 2006. The deadline for the final results of this administrative review continues to be 120 days after the publication of the preliminary results, unless extended.

This notice is issued and published in accordance with section 751(a)(3)(A) of the Act.

Dated: September 29, 2005.
Barbara E. Tillman,
Acting Deputy Assistant Secretary for Import Administration.

[FR Doc. E5-5516 Filed 10-5-05; 8:45 am]

BILLING CODE 3510-DS-S